DEPARTMENT OF ENERGY

Federal Energy Regulatory Commission

[Docket No. CP25-539-000]

Rockies Express Pipeline LLC; Cheyenne Connector, LLC; East Cheyenne Gas Storage, LLC; Notice of Schedule for the Preparation of an Environmental Assessment for the Critical Energy Reliability Link Project

On August 15, 2025, Rockies Express Pipeline LLC (REX), Cheyenne Connector, LLC (Cheyenne Connector), and East Cheyenne Gas Storage, LLC (East Cheyenne) (collectively the Applicants) filed an application in Docket No. CP25-539-000 requesting a Certificate of Public Convenience and Necessity pursuant to Sections 7(c) and 7(b) of the Natural Gas Act to construct, operate, and abandon certain natural gas pipeline facilities. The proposed project is known as the Critical Energy Reliability Link Project (Project) and would provide up to 100,000 dekatherms per day (Dth/d) of firm natural gas transportation service and 50,000 Dth/d of no-notice service to Colorado Springs Utilities in Colorado Springs, Colorado.

On August 29, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1765365565.

Schedule for Environmental Review

Issuance of EA—July 2, 2026

90-day Federal Authorization Decision Deadline ²—September 30, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

REX proposes to construct and operate in Weld, Adams, Arapahoe, Elbert, and El Paso counties, Colorado: approximately 160 miles of 24-inch-diameter natural gas pipeline, one new compressor station, and associated metering and appurtenant facilities. REX would also acquire, via a lease agreement, capacity on the Cheyenne Connector Pipeline (Cheyenne Connector Lease) and capacity on East Cheyenne's gas storage facilities (East Cheyenne Lease) Additionally, Cheyenne Connector and East Cheyenne propose to abandon by lease 250,000 Dth/d of existing unsubscribed transportation capacity to REX, pursuant to the Cheyenne Connector Lease; and abandon by lease 1,500,000 dekatherms of existing unsubscribed storage capacity to REX, pursuant to the East Cheyenne Lease.

Background

On October 10, 2025, the Commission issued a Notice of Scoping Period Requesting Comments on Environmental Issues for the Proposed Critical Energy Reliability Link Project, and Notice of Public Scoping Sessions (Notice of Scoping). The Notice of Scoping was sent to affected landowners; federal, state, and local government agencies; elected officials; environmental and public interest groups; Native American tribes; other interested parties; and local libraries and newspapers. In response to the Notice of Scoping, the Commission received comments from Colorado Parks and Wildlife Northeast Region, Arapahoe County of Emergency Management, Colorado Competitive Council, Colorado Real Estate Alliance, Rocky Mountain Farmers Union, Building Jobs4Colorado, and three landowners. The primary issues raised by the commenters relate to high priority habitats; threatened and endangered species; noxious weeds; impacts on aquifers; restoration of areas disturbed by the Project; facility lighting impacts; landscape (including grassland and soils) disturbances within Elbert County; impacts on rural communities; and general support for the project. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP25-539), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

(Authority: 18 CFR 2.1)

Dated: December 11, 2025.
Carlos D. Clay,
Deputy Secretary.

[FR Doc. 2025-22942 Filed 12-15-25; 8:45 am]

BILLING CODE 6717-01-P